NATIONAL SCIENCE FOUNDATION

Committee Management; Renewals

The NSF management officials having responsibility for the four advisory committees listed below have determined that renewing these groups for another two years is necessary and in the public interest in connection with the performance of duties imposed upon the Director, National Science Foundation (NSF), by 42 U.S.C. 1861 et seq. This determination follows consultation with the Committee Management Secretariat, General Services Administration.

1. Committee on Equal Opportunities in Science and Engineering (#1173).

2. Advisory Committee for Computer and Information Sciences and Engineering (#1115).

3. Advisory Committee for Mathematical and Physical Sciences (#66).

4. Advisory Committee for Social, Behavioral & Economic Sciences (#1171).

Effective date for renewal is July 1, 2002. For more information, please contact Susanne Bolton, NSF, at (703) 292-7488.

Dated: June 28, 2002.
Susanne Bolton,
Committee Management Officer.

[FR Doc. 02-16727 Filed 7-2-02; 8:45 am]

BILLING CODE 7555-01-M